DEPARTMENT OF ENERGY

Federal Energy Regulatory Commission

[Docket Nos. RP98-198-003 and RP85-177-128]

Texas Eastern Transmission Corporation; Notice of Compliance Filing

April 17, 2001.

Take notice that on April 11, 2001, Texas Eastern Transmission Corporation (Texas Eastern) tendered for filing as part of its FERC Gas Tariff, Sixth Revised Volume No. 1 and Original Volume No. 2, the revised tariff sheets listed on Appendix A to the filing, to become effective as reflected thereon.

Texas Eastern states that the purpose of this filing is to comply with Section 4.05 of the Joint Stipulation and Agreement Amending Global Settlement (Amended Global Settlement) approved by the Commission in its order issued August 28, 1998, [See Texas Eastern Transmission Corp., 84 FERC 61,200 (1998)] and Section 157.217 of the Commission's Regulations (18 CFR 157.217). Texas Eastern states that pursuant to the Amended Global Settlement its customers were afforded rights to convert their Part 157 service to Part 284 open access service.

Texas Eastern also states that the Amended Global Settlement provided that the Commission's approval thereof shall constitute all abandonment and certificate authorization required to implement any such conversions. Texas Eastern states that the purpose of this filing is to make the appropriate tariff revisions to reflect contract conversions resulting from the exercise by those customers which so elected to exercise their Amended Global Settlement conversion rights.

Texas Eastern states that copies of the filing were mailed to all affected customers of Texas Eastern and interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-9903 Filed 4-20-01; 8:45 am]

BILLING CODE 6717-01-M